COMMITTEE FOR THE IMPLEMENTATION OF TEXTILE AGREEMENTS

Determination Under the Textile and Apparel Commercial Availability Provision of the Dominican Republic-Central America-United States Free Trade Agreement (“CAFTA-DR”)

AGENCY: The Committee for the Implementation of Textile Agreements.

ACTION: Determination to add a product in unrestricted quantities to Annex 3.25 of the CAFTA-DR.

SUMMARY: The Committee for the Implementation of Textile Agreements (“CITA”) has determined that certain two-way stretch woven polyester, rayon, spandex fabric, as specified below, is not available in commercial quantities in a timely manner in the CAFTA-DR countries. The product is added to the list in Annex 3.25 of the CAFTA-DR in unrestricted quantities.

DATES: Applicable Date: September 23, 2024.

ADDRESSES: https://otexaprod.trade.gov/otexacapublicsite/requests/cafta under “Approved Requests,” File Number: CA2024004.

FOR FURTHER INFORMATION CONTACT: Kayla Johnson, Office of Textiles and Apparel, U.S. Department of Commerce, (202) 482-2532 or Kayla.Johnson@trade.gov.

SUPPLEMENTARY INFORMATION:

Authority: The CAFTA-DR; Section 203(o)(4) of the Dominican Republic-Central America-United States Free Trade Agreement Implementation Act (“CAFTA-DR Implementation Act”), Public Law 109-53; the Statement of Administrative Action accompanying the CAFTA-DR Implementation Act; and Presidential Proclamation 7987 (February 28, 2006).

Background: The CAFTA-DR provides a list in Annex 3.25 for fabrics, yarns, and fibers that the Parties to the CAFTA-DR have determined are not available in commercial quantities in a timely manner in the territory of any Party. The CAFTA-DR provides that this list may be modified pursuant to Article 3.25.4, when the United States determines that a fabric, yarn, or fiber is not available in commercial quantities in a timely manner in the territory of any Party. See Annex 3.25 of the CAFTA-DR; see also section 203(o)(4)(C) of the CAFTA-DR Implementation Act.

The CAFTA-DR Implementation Act requires the President to establish procedures governing the submission of a request and providing opportunity for interested entities to submit comments and supporting evidence before a commercial availability determination is made. In Presidential Proclamation 7987, the President delegated to CITA the authority under section 203(o)(4) of CAFTA-DR Implementation Act for modifying the Annex 3.25 list. Pursuant to this authority, on September 15, 2008, CITA published modified procedures it would follow in considering requests to modify the Annex 3.25 list of products determined to be not commercially available in the territory of any Party to the CAFTA-DR (Modifications to Procedures for Considering Requests Under the Commercial Availability Provision of the Dominican Republic-Central America-United States Free Trade Agreement, 73 FR 53200) (“CITA's Procedures”).

On August 12, 2024, CITA received a Commercial Availability Request (“Request”) from CFI Textiles (“CFI”) for certain two-way stretch woven polyester, rayon, spandex fabric, as specified below. On August 14, 2024, in accordance with CITA's Procedures, CITA notified interested parties of the Request, which was posted on the dedicated website for CAFTA-DR Commercial Availability proceedings. In its notification, CITA advised that any Response with an Offer to Supply (“Response”) must be submitted by August 26, 2024, and any Rebuttal to a Response (“Rebuttal”) must be submitted by August 30, 2024, in accordance with sections 6 and 7 of CITA's Procedures. No interested entity submitted a Response to the Request advising CITA of its objection to the Request with an offer to supply the subject product in accordance with CITA's Procedures.

In accordance with section 203(o)(4)(C) of the CAFTA-DR Implementation Act, and section 8(c)(2) of CITA's Procedures, as no interested entity submitted a Response objecting to the Request and providing an offer to supply the subject product in accordance with CITA's Procedures, CITA has determined to add the specified fabric to the list in Annex 3.25 of the CAFTA-DR.

The subject product has been added to the list in Annex 3.25 of the CAFTA-DR Agreement in unrestricted quantities. A revised list has been posted on the dedicated website for CAFTA-DR Commercial Availability proceedings, at https://otexaprod.trade.gov/otexacapublicsite/shortsupply/cafta.

Specifications: Certain Two-Way Stretch Woven Polyester, Rayon, Spandex Fabric

HTS: 5515.11.00.

Fiber Content: 50 to 77 percent polyester; 18 to 47 percent rayon; 3 to 8 percent spandex (for fabrics comprising single yarns in the warp, the polyester content may be higher).

Staple Length (where applicable): 4.44 to 6.99 centimeters (1.75 to 2.75 inches).

Note: The staple length designation 1.75″—2.75″ inches describes a range of long staple fiber in its raw griege condition before spinning, weaving, dyeing and finishing of the fabric. It is intended as a specification to be followed by the mill in sourcing long staple fiber used to produce the yarn and fabric. Spinning, weaving, dyeing and finishing alter the characteristic of the staple fiber as it appears in the finished fabric. This specification therefore includes staple appearing in the finished fabric as shorter than 1.75″ inches provided that the shorter appearance occurs solely as the result of such processes.

Yarn (Three Configurations)

#1: Warp and filling: plied polyester/rayon staple of various yarn sizes, combined with spandex filament of various deniers.

#2: Warp and filling 34/1 (English 20/1) or finer polyester/rayon staple, combined with spandex filament of various deniers.

#3: Warp: 34/1 (English 20/1) or finer polyester/rayon staple, or plied polyester/rayon staple of various yarn sizes, combined with spandex filament of various deniers;

Filling: singles or plied polyester filament of various yarn sizes, combined with spandex filament of various deniers.

Note: The designation “34/1 (English 20/1) or finer” describes a range of yarn specifications for yarn it its greige condition before dyeing and finishing of the yarn (if applicable) and before weaving, dyeing and finishing of the fabric. It is intended as a specification to be followed by the mill in sourcing yarn used to produce the fabric. Dyeing, finishing and weaving can alter the characteristic of the yarn as it appears in the finished fabric. This specification therefore includes yarns appearing in the finished fabric as coarser than 34/1 (English 20/1) provided that the coarser appearance occurs solely as the result of such processes.

Thread Count: 23 to 51 warp ends by 16 to 39 filling picks per centimeter (60 to 130 warp ends by 40 to 100 filling picks per inch).

Weave Type: Various (including plain and twill).

Weight:

Fabrics comprising single yarns in the warp—200 to 290 grams per square meter (5.9 to 8.6 ounces per square yard).

Fabrics comprising plied yarns in the warp—200 to 310 grams per square meter (5.9 to 9.1 ounces per square yard).

Width: 121 to 165 centimeters (English 48 to 65 inches).

Finish: Dyed and of yarns of different colors.

Megan Crowe,
Acting Chairman, Committee for the Implementation of Textile Agreements.

[FR Doc. 2024-21679 Filed 9-20-24; 8:45 am]

BILLING CODE 3510-DR-P